DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 25, 2022 will be considered. Written comments and recommendations for the proposed information collection should be submitted within 30 days of the publication of this notice on the following website www.reginfo.gov/public/do/PRAMain. Find this information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Child and Adult Care Food Program (CACFP).

OMB Control Number: 0584-0055.

Summary of Collection: Section 17 of the National School Lunch Act (“the Act”), as amended (42 U.S.C. 1766), authorizes the Child and Adult Care Program (CACFP). Section 17a of the Act authorizes the Afterschool/At-Risk component of the CACFP. Section 9 of the Act authorizes nutritional and other program requirements related to the CACFP. Under this program, the Secretary of Agriculture is authorized to provide cash reimbursement and commodity assistance, on a per meal basis, for food service to children in nonresidential child care centers and family or group day care homes, and to eligible adults in nonresidential adult day care centers. The Food and Nutrition Service (FNS) has established application, monitoring, recordkeeping, public disclosure, and reporting requirements to manage the Program effectively, and ensure that the legislative intent of this mandate is responsibly implemented.

This is a reinstatement, with change, of a previously approved information collection that expired on February 29, 2020. Due to statute, FNS is still legally required to collect the data in this information collection. Consequently, FNS has been collecting this information in violation of the Paperwork Reduction Act. With this reinstatement, FNS is requesting approval for the information collected in this collection.

Need and Use of the Information: The information collected is necessary to enable institutions wishing to participate in the CACFP to submit applications to the administering agencies, execute agreements with those agencies, and claim the reimbursement to which they are entitled by law. FNS and State agencies administering the program will use the collected information to ensure that institutions accept, as mandated by Congress, their responsibilities and liabilities in connection with the CACFP, provide the legal basis for their participation, and allow administering agencies to monitor these operations to ensure compliance with legislative and regulatory requirements. FNS uses the information to conduct reviews that determine whether or not institutions are observing the requirements established by statute and regulation.

Description of Respondents: Business or other for-profit; Not-for-profit institutions; State, Local, or Tribal Government; and Individuals or households.

Number of Respondents: 3,794,949.

Frequency of Responses: Recordkeeping; Reporting, and Third Party Disclosure: On occasion; Monthly, and Annually.

Total Burden Hours: 4,213,211.

Dated: March 22, 2022.
Ruth Brown,
Departmental Information Collection Clearance Officer.

[FR Doc. 2022-06320 Filed 3-24-22; 8:45 am]

BILLING CODE 3410-30-P